NUCLEAR REGULATORY COMMISSION

Indiana Michigan Power Company, Donald C. Cook Nuclear Plant, Units 1 and 2; Notice of Correction to Biweekly Notice of Issuance of Amendments to Facility Operating Licenses

On May 17, 2000 (65 FR 31364), the Federal Register published the Biweekly Notice of Applications and Amendments to Operating Licenses Involving No Significant Hazards Considerations. On page 31364, under Indiana Michigan Power Company, Docket Nos. 50-315 and 50-316, the amendment number was incorrectly noted. It should read, “Amendment Nos.: 244 and 225.

Dated at Rockville, Maryland this 18th day of May 2000.
For the Nuclear Regulatory Commission.
John F. Stang,
Senior Project Manager, Section 1, Project Directorate III, Division of Licensing Project Management, Office of Nuclear Reactor Regulation.

[FR Doc. 00-13064 Filed 5-23-00; 8:45 am]

BILLING CODE 7590-01-P